ENVIRONMENTAL PROTECTION AGENCY

[ER-FRL-6338-4]

Environmental Impact Statements; Notice of Availability

Responsible Agency: Office of Federal Activities, General Information, (202) 564-7167 or http://www.epa.gov/compliance/nepa/

Weekly receipt of Environmental Impact Statements filed March 3, 2003, through March 7, 2003, pursuant to 40 CFR 1506.9.

EIS No. 030088, Final EIS, NPS, AZ, Tonto National Monument, General Management Plan, New Administrative Facility Construction within the Monument Boundaries, Implementation, AZ, Wait Period Ends: April 14, 2003, Contact: Lee Baiza (928) 467-2241. This document is available on the Internet at: http://planning.nps.gov/plans.cfm.

EIS No. 030089, Final EIS, COE, TX, North Padre Island Storm Damage Reduction and Environmental Restoration Project, Construction of a Channel between the Laquna Madre and the Gulf of Mexico across North Padre Island referred to as Packery Channel Project, Nueces County, IL, Wait Period Ends: April 14, 2003, Contact: Carolyn Murphy (409) 766-3044.

EIS No. 030090, Final EIS, AFS, AZ, Flagstaff/Lake Mary Ecosystem Analyses Area, Amendment to the Coconino Forest Plan, Implementation, Coconino National Forest, Peaks and Mormon Lake Ranger Districts, Coconino County, AZ, Wait Period Ends: April 14, 2003, Contact: Debbie Kill (928) 526-0866. This document is available on the Internet at: http://www.fs.fed.us/r3/coconino/nepa.

EIS No. 030091, Draft EIS, AFS, CA, Silver Pearl Land Exchange Project, Proposal to Exchange 2,153 Acres of National Forest System (NFS) Land for up to 3,963 Acres of Sierra Pacific Industries Land (SPI) Land, within the boundary of Eldorado National Forest, Eldorado and Placer County, CA, Comment Period Ends: April 28, 2003, Contact: Elaine Gee (530) 333-5568.

EIS No. 030092, Draft EIS, COE, FL, Miami Harbor Navigation Improvements Project, To Study the Feasibility of Widening and Deepening Portions of the Port, Miami-Dade County, FL, Comment Period Ends: May 4, 2003, Contact: Terri Jordan (904) 232-1817.

EIS No. 030093, Draft EIS, BLM, CO, Gunnison Gorge National Conservation Area Resource Management Plan, Implementation, Montrose and Delta Counties, CO, Comment Period Ends: June 16, 2003, Contact: Bill Bottomly (970) 240-5337. This document is available on the Internet at: http://www.gunnison-gorge-eis.com.

EIS No. 030094, Draft EIS, EPA, AK, Pogo Gold Mine Project, Construct and Operate an Underground Mine, NPDES and U.S. Army COE Section 404 Permits, Goodpaster River Valley, Delta Junction, AK, Comment Period Ends: May 13, 2003, Contact: Hanh Gold (206) 553-0171. This document is available on the Internet at: http://www.pogomineeis.com.

EIS No. 030095, Draft EIS, FRC, CA, El Dorado Hydroelectric Project, Application for a New License, South Fork of the American River Basin, and Truckee River Basin, (FERC NO. 184-065) (FERC NO. 184-065), EL Dorada National Forest, Lake Tahoe Basin Management Unit, Alpine, Amador and EL Dorada Counties, CA, Comment Period Ends: April 28, 2003, Contact: Susan O'Brien (202) 502-8449.

EIS No. 030096, Draft EIS, BLM, NV, Black Rock Desert—High Rock Canyon Emigrant Trails National Conservation Area (NCA) and Associated Wilderness, and Other Contiguous Lands, Resource Management Plan, Implementation, Great Basin, NV, Comment Period Ends: June 16, 2003, Contact: Ester Hutchison (775) 623-1523. This document is available on the Internet at: http://www.BlackRockHighRock.org.

Amended Notices

EIS No. 030080, Draft EIS, AFS, SC, Sumter National Forest Revised Land and Resource Management Plan, Implementation, Oconee, Chester, Fairfield, Laurens, Newberry, Union-Abbeville, Edgefield, Greenwood, McCormick and Saluda Counties, SC, Comment Period Ends: June 21, 2003, Contact: Jerome Thomas (803) 561-4000. Revision of FR Notice Published on 3/7/2003: Correction to Comment Period from 4/21/2003 to 6/21/2003.

Dated: March 11, 2003.
Joseph C. Montgomery,
Director, NEPA Compliance Division, Office of Federal Activities.

[FR Doc. 03-6195 Filed 3-13-03; 8:45 am]

BILLING CODE 6560-50-P